DEPARTMENT OF TRANSPORTATION

Federal Aviation Administration

[Summary Notice No. PE-2001-95]

Petitions for Exemption; Summary of Petitions Received

AGENCY: Federal Aviation Administration (FAA), DOT.

ACTION: Notice of petitions for exemption received.

SUMMARY: Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

DATES: Comments on petitions received must identify the petition docket number involved and must be received on or before February 5, 2002.

ADDRESSES: Send comments on any petition to the Docket Management System, U.S. Department of Transportation, Room Plaza 401, 400 Seventh Street, SW., Washington, DC 20590-0001. You must identify the docket number FAA-2000-XXXX at the beginning of your comments. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on January 11, 2002.
Donald P. Byrne,
Assistant Chief Counsel for Regulations.

Petitions for Exemption

Docket No.: FAA-2001-10442.

Petitioner: Era Aviation, Inc.

Section of 14 CFR Affected: 14 CFR 119.71.

Description of Relief Sought: To allow Era to employ a captain as a chief pilot while he is pursuing medical requalification for the position.

Docket No.: FAA-2001-10622.

Petitioner: Papillon Grand Canyon Helicopters.

Section of 14 CFR Affected: 14 CFR 135.265(d).

Description of Relief Sought: To allow PGCH to engage flight crewmembers on a seven days on, seven days off work rotation schedule.

Docket No.: FAA-2001-11150.

Petitioner: F.S. Air Service, Inc.

Section of 14 CFR Affected: 14 CFR 25.857(b)(3).

Description of Relief Sought: To allow FSAS to configure the CASA C-212 CC and CD series airplane in a passenger/cargo configuration and be exempt from the requirements of 14 CFR 25.857(b)(3) for a “separate approved smoke detector or fire detector system to give warning at the pilot or flight engineer station.''

[FR Doc. 02-1160 Filed 1-15-02; 8:45 am]

BILLING CODE 4910-13-M